DEPARTMENT OF DEFENSE

Office of the Secretary

[Docket ID DoD-2013-OS-0052]

Proposed Collection; Comment Request

AGENCY: Defense Finance and Accounting Service (DFAS), DoD.

ACTION: Notice.

In compliance with Section 3506(c)(2)(A) of the Paperwork Reduction Act of 1995, the Defense Finance and Accounting Service announces a new proposed public information collection and seeks public comment on the provisions thereof. Comments are invited on: (a) Whether the proposed collection of information is necessary for the proper performance of the functions of the agency, including whether the information shall have practical utility; (b) the accuracy of the agency's estimate of the burden of the proposed information collection; (c) ways to enhance the quality, utility and clarity of the information to be collected; and (d) ways to minimize the burden of the information collection on respondents, including through the use of automated collection techniques or other forms of information technology.

DATES: Consideration will be given to all comments received by May 20, 2013.

ADDRESSES: You may submit comments, identified by docket number and title, by any of the following methods:

• Federal eRulemaking Portal: http://www.regulations.gov. Follow the instructions for submitting comments.

• Mail: Federal Docket Management System Office, 2nd Floor, East Tower, Suite 02G09, Mark Center Drive, Alexandria, VA 22350-3100.

Instructions: All submissions received must include the agency name, docket number and title for this Federal Register document. The general policy for comments and other submissions from members of the public is to make these submissions available for public viewing on the Internet at http://www.regulations.gov as they are received without change, including any personal indentifiers or contact information.

FOR FURTHER INFORMATION CONTACT: To request more information on this proposed information collection or to obtain a copy of the proposal and associated collection instruments, please write to Defense Finance and Accounting Service—Indianapolis, ATTN: ZTD—Mr. Joe Latchaw, Col 238N, Indianapolis, IN 46229, or call Mr. Bob Shreffler, (317) 212-3013.

Title, Associated Form, and OMB Control Number: Customer Care Center Enterprise Solution (CCCES); OMB Control Number 0730-TBD.

Needs and Uses: The CCCES supports the DFAS mission of providing an integrated Agent Platform, Customer Relationship Management (CRM) and supporting Knowledge Base (KB) solution that improves Customer Service Representative (CSR) efficiency and customer satisfaction. It is the means by which customer inquiries will be delivered to the CSR for resolution. This platform will support the inquiry routing and distribution to the CSRs, telephonically self-service, wait-in-queue outbound dialing, workforce management, call recording, metric gathering, and analysis. Information from the public is collected for verification, identification, authentication, and data matching in an effort to assist callers with inquiries and looking up historical contact records.

Affected Public: Individuals and households including: Former military service members, dependents, ex-spouses, non-DoD civilians paid by DFAS.

Annual Burden Hours: 789,448 hours.

Number of Respondents: 3,157,792.

Responses per Respondent: 1.

Average Burden Per Response: 15 minutes.

Frequency: On occasion.

SUPPLEMENTARY INFORMATION:

Summary of Information Collection

The CCCES is the means by which customer inquiries will be delivered to the CSR for resolution. Information for the CCCES is only collected from these individuals and households (i.e., former military service members, dependents, ex-spouses, and non-DoD civilians paid by DFAS) if they contact DFAS by telephone to obtain answers to inquiries about their accounts.

Dated: March 1, 2013.
Aaron Siegel,
Alternate OSD Federal Register Liaison Officer, Department of Defense.

[FR Doc. 2013-06340 Filed 3-19-13; 8:45 am]

BILLING CODE 5001-06-P